Presidential Determination No. 2017-12 of September 13, 2017

Presidential Determination on Major Drug Transit or Major Illicit Drug Producing Countries for Fiscal Year 2018

Memorandum for the Secretary of State

Pursuant to section 706(1) of the Foreign Relations Authorization Act, Fiscal Year 2003 (Public Law 107-228) (FRAA), I hereby identify the following countries as major drug transit and/or major illicit drug producing countries: Afghanistan, The Bahamas, Belize, Bolivia, Burma, Colombia, Costa Rica, Dominican Republic, Ecuador, El Salvador, Guatemala, Haiti, Honduras, India, Jamaica, Laos, Mexico, Nicaragua, Pakistan, Panama, Peru, and Venezuela.

A country's presence on the foregoing list is not necessarily a reflection of its government's counternarcotics efforts or level of cooperation with the United States. Consistent with the statutory definition of a major drug transit or drug producing country set forth in section 481(e)(2) and (5) of the Foreign Assistance Act of 1961, as amended (FAA), the reason major drug transit or illicit drug producing countries are placed on the list is the combination of geographic, commercial, and economic factors that allow drugs to transit or be produced, even if a government has carried out the most assiduous narcotics control law enforcement measures.

Pursuant to section 706(2)(A) of the FRAA, I hereby designate Bolivia and Venezuela as countries that have failed demonstrably during the previous 12 months to adhere to their obligations under international counternarcotics agreements, and to take the measures required by section 489(a)(1) of the FAA. Included with this determination are justifications for the designations of Bolivia and Venezuela, as required by section 706(2)(B) of the FRAA.

In addition, the United States Government seriously considered designating Colombia as a country that has failed demonstrably to adhere to its obligations under international counternarcotics agreements due to the extraordinary growth of coca cultivation and cocaine production over the past 3 years, including record cultivation during the last 12 months. Ultimately, Colombia is not designated because the Colombian National Police and Armed Forces are close law enforcement and security partners of the United States in the Western Hemisphere, they are improving interdiction efforts, and have restarted some eradication that they had significantly curtailed beginning in 2013. I will, however, keep this designation under section 706(2)(A) of the FRAA as an option, and expect Colombia to make significant progress in reducing coca cultivation and production of cocaine.

I have also determined, in accordance with provisions of section 706(3)(A) of the FRAA, that support for programs to aid the people of Venezuela are vital to the national interests of the United States.

You are hereby authorized and directed to submit this designation, with its Bolivia and Venezuela memoranda of justification, under section 706 of the FRAA, to the Congress, and publish it in the Federal Register.

THE WHITE HOUSE,

Washington, September 13, 2017

[FR Doc. 2017-21028

Filed 9-27-17; 11:15 am]

Billing code 4710-10-P